INTERNATIONAL TRADE COMMISSION

[Investigation No. Singapore FTA 103-10]

Certain Yarns and Fabrics: Effect of Modification of U.S.-Singapore FTA Rules of Origin for Goods of Singapore

AGENCY: United States International Trade Commission.

ACTION: Institution of investigation and request for written submissions.

EFFECTIVE DATE: March 14, 2005.

SUMMARY: Following receipt of a request on March 2, 2005, from the Acting United States Trade Representative (USTR) under authority delegated by the President and pursuant to section 103 of the United States-Singapore Free Trade Agreement (USSFTA) Implementation Act (19 U.S.C. 3805 note), the Commission instituted Investigation No. Singapore FTA 103-10, Certain Yarns and Fabrics: Effect of Modification of U.S.-Singapore FTA Rules of Origin for Goods of Singapore.

FOR FURTHER INFORMATION CONTACT: Information may be obtained from Robert W. Wallace, Office of Industries (202-205-3458, robert.wallace@usitc.gov); for information on legal aspects, contact William Gearhart of the Office of the General Counsel (202-205-3091, william.gearhart@usitc.gov). The media should contact Margaret O'Laughlin, Office of External Relations (202-205-1819, margaret.olaughlin@usitc.gov).

Background: Chapter 3 and Annex 3-A of the USSFTA contain the rules of origin for textiles and apparel for application of the tariff provisions of the USSFTA. These rules are set forth for the United States in general note 25 to the Harmonized Tariff Schedule (HTS). According to the request letter, U.S. negotiators have recently reached agreement in principle with representatives of the Government of Singapore to modify the USSFTA rules of origin for certain yarns and fabrics (as described below). If implemented, the proposed rules of origin would apply to U.S. imports from and exports to the USSFTA parties. Section 202(o)(2)(B)(i) of the United States-Singapore Free Trade Agreement Implementation Act (the Act) authorizes the President, subject to the consultation and layover requirements of section 103 of the Act, to proclaim such modifications to the rules of origin as are necessary to implement an agreement with Singapore pursuant to Article 3.18.4(c) of the Agreement. One of the requirements set out in section 103 of the Act is that the President obtain advice from the United States International Trade Commission.

The request letter asked that the Commission provide advice on the probable effect of the proposed modification of the USSFTA rules of origin for the four textile articles described below on U.S. trade under the USSFTA, on total U.S. trade, and on domestic producers of the affected articles. As requested, the Commission will submit its advice to USTR by May 27, 2005, and soon thereafter, issue a public version of the report with any confidential business information deleted. Additional information concerning the articles and the proposed modifications can be obtained by accessing the electronic version of this notice at the Commission Internet site (http://www.usitc.gov). The current USSFTA rules of origin applicable to U.S. imports can be found in general note 25 of the 2005 HTS (see “General Notes” link at http://www.usitc.gov/tata/hts/bychapter/index.htm).

The articles of Singapore covered by the investigation are (1) ring spun single yarn of nm 51 and 85, containing 50 percent or more, but less than 85 percent, by weight of 0.9 denier or finer micro modal fiber, mixed solely with U.S. origin extra long pima cotton, classified in HTS subheading 5510.30.0000, for use in women's and girls' knit blouses, shirts, lingerie, and underwear; (2) 100 percent cotton woven flannel fabrics, of yarns of different colors, containing ring-spun yarns of nm 21 through nm 36, of 2 x 2 twill weave construction, classified in HTS subheading 5208.43.0000, for use in apparel other than gloves; (3) fabrics of cotton classified in HTS subheadings 5210.21 and 5210.31, not of square construction, containing more than 70 warp ends and filling picks per square centimeter, of average yarn number exceeding 70 nm, for use in women's and girls' blouses; and (4) micro-denier 30 singles and 36 singles solution dyed, open-end spun, staple spun viscose yarn, classified in HTS subheading 5510.11.0000, for use in apparel.

Written Submissions: No public hearing is planned. However, interested parties are invited to submit written statements concerning the matters to be addressed by the Commission in this investigation. Submissions should be addressed to the Secretary, United States International Trade Commission, 500 E Street, SW., Washington, DC 20436. To be assured of consideration by the Commission, written statements related to the Commission's report should be submitted to the Commission at the earliest practical date and should be received no later than the close of business on April 20, 2005. All written submissions must conform with the provisions of section 201.8 of the

Commission's Rules of Practice and Procedure (19 CFR 201.8). Section 201.8 of the rules requires that a signed original (or copy designated as an original) and fourteen (14) copies of each document be filed. In the event that confidential treatment of the document is requested, at least four (4) additional copies must be filed, in which the confidential business information must be deleted (see the following paragraph for further information regarding confidential business information). The Commission's rules do not authorize filing submissions with the Secretary by facsimile or electronic means, except to the extent permitted by section 201.8 of the rules (see Handbook for Electronic Filing Procedures, ftp://ftp.usitc.gov/pub/reports/electronic_filing_handbook.pdf). Persons with questions regarding electronic filing should contact the Secretary (202-205-2000 or edis@usitc.gov).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available in the Office of the Secretary to the Commission for inspection by interested parties.

The Commission may include some or all of the confidential business information submitted in the course of this investigation in the report it sends to the USTR and the President. As requested by the Acting USTR, the Commission will publish a public version of the report. However, in the public version, the Commission will not publish confidential business information in a manner that would reveal the operations of the firm supplying the information.

The public record for this investigation may be viewed on the Commission's electronic docket (EDIS) http://edis.usitc.gov. Hearing impaired individuals may obtain information on this matter by contacting the Commission's TDD terminal on 202-205-1810. Persons with mobility impairments who will need special assistance in gaining access to the Commission should contact the Office of the Secretary at 202-205-2000.

Issued: March 15, 2005.
By order of the Commission.
Marilyn R. Abbott,
Secretary to the Commission.

[FR Doc. 05-5390 Filed 3-17-05; 8:45 am]

BILLING CODE 7020-02-P